DEPARTMENT OF ENERGY

Federal Energy Regulatory Commission

Notice of Application for Non-Project Use of Project Lands and Soliciting Comments, Motions To Intervene, and Protests

July 19, 2005.

Take notice that the following application has been filed with the Commission and is available for public inspection:

a. Application Type: Non-Project Use of Project Lands.

b. Project No: 2210-116.

c. Dates Filed: March 4, 2005 and revised June 21, 2005.

d. Applicant: Appalachian Power Company (APC).

e. Name of Project: Smith Mountain Pumped Storage Project.

f. Location: The project is located on the Roanoke River, in Bedford, Pittsylvania, Franklin, and Roanoke Counties, Virginia.

g. Filed Pursuant to: Federal Power Act, 16 U.S.C. 791(a) 825(r) and 799 and 801.

h. Applicant Contact: Teresa P. Rogers, Hydro Generation Department, American Electric Power, P.O. Box 2021, Roanoke, VA 24022-2121, (540) 985-2441.

i. FERC Contact: Any questions on this notice should be addressed to Mrs. Heather Campbell at (202) 502-6182, or e-mail address: heather.campbell@ferc.gov.

j. Deadline for filing comments and or motions: August 22, 2005.

All documents (original and eight copies) should be filed with: Ms. Magalie R. Salas, Secretary, Federal Energy Regulatory Commission, 888 First Street, NE., Washington DC 20426. Please include the project number (P-2210-116) on any comments or motions filed. Comments, protests, and interventions may be filed electronically via the Internet in lieu of paper. See, 18 CFR 385.2001(a)(1)(iii) and the instructions on the Commission's Web site at http://www.ferc.gov under the e-Filing” link. The Commission strongly encourages e-filings.

k. Description of Request: APC is requesting an amendment to an approved non-project use of project lands application and a variance to the shoreline classification in the shoreline management plan. The Commission previously approved two docks with 24 covered slips each, 32 floating slips to serve a restaurant and conference center, and 8 floating slips at The Pointe. APC is requesting approval to permit an additional 110 stationary covered slips and 36 floating docks. The proposed slips will serve The Pointe Condominiums and may be rented to the general public if residents of either The Pointe or Mariner's Landing do not wish to rent the slips. Upon approval of this filing, there would be a total of 158 covered slips and 76 floating slips at The Pointe.

The licensee is also requesting the shoreline classification be modified to High Density Commercial which is consistent with the Bedford County zoning and because the adjacent shoreline is already classified as such.

l. Location of the Application: This filing is available for review at the Commission in the Public Reference Room 888 First Street, NE., Room 2A, Washington, DC 20426 or may be viewed on the Commission's Web site at http://www.ferc.gov using the “e-library” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, State, and local agencies are invited to file comments on the described applications. Copies of the applications may be obtained by agencies directly from the Applicant. If an agency does not file comments within the time specified for filing comments, it will be presumed to have no comments. One copy of an agency's comments must also be sent to the Applicant's representatives.

Magalie R. Salas,
Secretary.

[FR Doc. E5-3949 Filed 7-25-05; 8:45 am]

BILLING CODE 6717-01-P